DEPARTMENT OF DEFENSE

GENERAL SERVICES ADMINISTRATION

NATIONAL AERONAUTICS AND SPACE ADMINISTRATION

48 CFR Parts 1, 25, 52, and 53

[FAC 2005-21; Item VIII; Docket FAR-2007-0003; Sequence 3]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective Date: November 7, 2007.

FOR FURTHER INFORMATION CONTACT: The FAR Secretariat, Room 4035, GS Building, Washington, DC, 20405, (202) 501-4755, for information pertaining to status or publication schedules. Please cite FAC 2005-21, Technical Amendments.

List of Subjects in 48 CFR Parts 1, 25, 52, and 53

Government procurement.

Dated: October 31, 2007.
Al Matera,
Director, Office of Acquisition Policy.

Therefore, DoD, GSA, and NASA amend 48 CFR parts 1, 25, 52, and 53 as set forth below:

1. The authority citation for 48 CFR parts 1, 25, 52, and 53 continues to read as follows:

Authority: 40 U.S.C. 121(c); 10 U.S.C. chapter 137; and 42 U.S.C. 2473(c).

PART 1—FEDERAL ACQUISITION REGULATIONS SYSTEM

1.106 [Amended]

2. Amend section 1.106 by removing FAR Segments 52.210-8 with OMB Control Number “9000-0018”, 52.210-9 with OMB Control Number “9000-0016”, 52.210-10 with OMB Control Number “9000-0017”, and 52.212-1 and 52.212-2 with OMB Control Number “9000-0043”; and adding, in numerical order, FAR Segments 52.211-8 and 52.211-9 with OMB Control Number “9000-0043”.

PART 25—FOREIGN ACQUISITION

25.003 [Amended]

3. Amend section 25.003 in the definition “Caribbean Basin country end product” by removing from paragraph (1)(ii)(B) “http://www.customs.ustreas.gov/impoexpo/impoexpo.htm” and adding “http://www.usitc.gov/tata/hts/” in its place.

PART 52—SOLICITATION PROVISIONS AND CONTRACT CLAUSES

52.212-5 [Amended]

4. Amend section 52.212-5 by—

a. Revising date of the clause to read “(Nov 2007)”;

b. Removing from paragraph (b)(8)(i) “(Sep 2007)” and adding “(Nov 2007)” in its place; and

c. Removing from paragraph (b)(28) “(Aug 2007)” and adding “(Nov 2007)” in its place.

5. Amend section 52.219-9 by revising the date of the clause and paragraph (d)(1) to read as follows:

52.219-9 Small Business Subcontracting Plan.

* * * * *

SMALL BUSINESS SUBCONTRACTING PLAN (Nov 2007)

* * * * *

(d) * * *

(1) Goals, expressed in terms of percentages of total planned subcontracting dollars, for the use of small business, veteran-owned small business, service-disabled veteran-owned small business, HUBZone small business, small disadvantaged business, and women-owned small business concerns as subcontractors. The offeror shall include all subcontracts that contribute to contract performance, and may include a proportionate share of products and services that are normally allocated as indirect costs. In accordance with 43 U.S.C. 1626:

* * * * *

52.225-5 [Amended]

6. Amend section 52.225-5 by revising date of the clause to read “(Nov 2007)”; and in paragraph (a) in the definition “Caribbean Basin country end product” by removing from paragraph (1)(ii)(B) “http:/www.customs.ustreas.gov/impoexpo/impoexpo.htm” and adding “http://www.usitc.gov/tata/hts/” in its place.

52.225-17 [Amended]

7. Amend section 52.225-17 by removing from the introductory text “25.1103(d)”, and adding “25.1103(c)” in its place.

PART 53—FORMS

53.213 [Amended]

8. Amend section 53.213 by removing from paragraph (f) “OF 347 (Rev. 3/2005)” and “OF 348 (Rev. 10/83 Ed.)” and adding “OF 347 (Rev. 4/06)” and “OF 348 (Rev. 4/06)” in its place, respectively.

9. Revise section 53.302-347 to read as follows:

53.302-347 Order for Supplies or Services.

10. Revise section 53.302-348 to read as follows:

53.302-348 Order for Supplies or Services Schedule—Continuation.

BILLING CODE 6820-EP-S

[FR Doc. 07-5484 Filed 11-6-07; 8:45 am]

BILLING CODE 6820-EP-C